NUCLEAR REGULATORY COMMISSION

Sunshine Act Meeting

DATE: Weeks of June 3, 10, 17, 24, July 1, 8, 2002.

PLACE: Commissioners' Conference Room, 11555 Rockville Pike, Rockville, Maryland.

STATUS: Public and Closed.

Matters to be Considered:

Week of June 3, 2002

Friday, June 7, 2002

9:00 a.m.

Briefing on Strategic Workforce Planning and Human Capital Initiatives (Closed—Ex. 2)

Week of June 10, 2002—Tentative

There are no meetings scheduled for the Week of June 10, 2002.

Week of June 17, 2002—Tentative

There are no meetigns scheduled for the Week of June 17, 2002.

Week of June 24, 2002—Tentative

Tuesday, June 25, 2002

2:00 p.m.

Discussion of Intragovernmental Issues (Closed—Ex. 1)

Wednesday, June 26, 2002.

10:30 a.m.

All Employees Meeting (Public Meeting)

1:30 p.m.

All Employees Meeting (Public Meeting)

Week of July 1, 2002—Tentative

Monday, July 1, 2002

2:00 p.m.

Discussion of International Safeguards Issues (Closed—Ex. 9)

Week of July 8, 2002—Tentative

Wednesday, July 10, 2002

9:25 a.m.

Affirmation Session (Public Meeting) (If needed)

9:30 a.m.

Briefing on License Renewal Program and Power Uprate Review Activities (Public Meeting) (Contacts: Noel Dudley, 301-415-1154, for license renewal program; Mohammed Shuaibi, 301-415-2859, for power uprate review activities). This meeting will be webcast live at the Web address: www.ncr.gov

2:00 p.m.

Meeting with Advisory Committee on Reactor Safeguards (ACRS) (Public Meeting) (Contact: John Larkins, 301-415-7360). This meeting will be webcast live at the Web address: www.ncr.gov.

The schedule for Commission meetings is subject to change on short notice. To verify the status of meetings call (recording)—(301) 415-1292. Contact person for more information: David Louis Gamberoni (301) 415-1651.

ADDITIONAL INFORMATION: “Discussion of Intergovernmental Issues (Closed—Ex. 1),” scheduled for June 4, 2002, was canceled.

The NRC Commission Meeting Schedule can be found on the Internet at: www.nrc.gov/what-we-do/policy-making/schedule.html.

This notice is distributed by mail to several haundred subscribers; if you no longer wish to receive it, or would like to be added to the distribution, please contact the Office of the Secretary, Washington, DC 20555 (301-415-1969). In addition, distribution of this meeting notice over the Internet system is available. If you are interested in receiving this Commission meeting scheudle electronically, please send an electronic message to dkw@nrc.gov.

Dated: May 30, 2002.
David Louis Gamberoni,
Technical Coordinator, Office of the Secretary.

[FR Doc. 02-14059 Filed 5-31-02; 2:24 pm]

BILLING CODE 7590-01-M